DEPARTMENT OF TRANSPORTATION

Federal Aviation Administration

Notice to Manufacturers of Alternative Fuel Vans

AGENCY: Federal Aviation Administration (FAA), U.S. DOT.

ACTION: Notice to Manufacturers of Alternative Fuel Vans.

SUMMARY: Projects funded under the Airport Improvement Program (AIP) must meet the requirements of 49 U.S.C. 50101, Buy American Preferences. The Federal Aviation Administration (FAA) is considering issuing waivers to foreign manufacturers of alternative fuel vans. This notice requests information from manufacturers of alternative fuel vans meeting Vehicle 1 Category requirements established in the Voluntary Airport Low Emission Program (VALE) to determine whether a waiver to the Buy American Preferences should be issued.

FOR FURTHER INFORMATION CONTACT: Mr. Daniel Favarulo, Airports Financial Assistance, APP 520, Room 619, FAA, 800 Independence Avenue SW., Washington, DC 20591, Telephone (202) 267-8826.

SUPPLEMENTARY INFORMATION: The Federal Aviation Administration (FAA) manages a federal grant program for airports called the Airport Improvement Program (AIP). AIP grant recipients must follow 49 U.S.C. 50101, Buy American Preferences. Under 49 U.S.C. 50101(b)(3), the Secretary of Transportation may waive the Buy American Preference requirement if the goods are not produced in a sufficient and reasonably available amount or are not of a satisfactory quality.

The purpose of this notice is to request foreign as well as domestic manufacturers of alternative fuel vans to advise the FAA if they manufacture vans meeting Vehicle Category 1 requirements under the FAA's Voluntary Airport Low Emission Program (VALE). The detailed instructions for submitting the qualifications statement, including forms, may be found on the FAA Web site at: http://www.faa.gov/airports/aip/procurement/ at the Buy American Requirements Web page. The FAA wants to determine if there is sufficient quantity of domestic alternative fuel van manufacturers capable of meeting the requirements under Vehicle Category 1 of the FAA's Voluntary Airport Low Emission Program (VALE). If the FAA cannot find that there is sufficient quantity of domestic manufacturers, it will issue a nationwide waiver to the foreign manufacturers identified as being capable of meeting the Vehicle Category 1 requirements.

Technical Requirements: The FAA's Voluntary Airport Low Emission Program (VALE) Technical Report Version 7.0 Section 3.1.1, AIP Eligible Fuels, defines the eligible alternative fuels. In addition, the FAA's Voluntary Airport Low Emission Program (VALE) Technical Report Version 7.0, Section 5.2, defines the requirements for Vehicle Category 1.

After review, the FAA may issue a nationwide waiver to Buy American Preferences for foreign manufacturers or United States manufacturers that do not meet the Buy American Preference requirements. Waivers will not be issued for manufacturers that do not fully meet the technical requirements. This “nationwide waiver” allows equipment to be used on airport projects without having to receive separate project waivers. Having a nationwide waiver allows projects to start quickly without have to wait for the Buy American analysis to be completed for every project, while still assuring the funds used for airport projects meet the requirements of the Act. Items that have been granted a “nationwide waiver” can be found on the FAA Web site at: http://www.faa.gov/airports/aip/procurement/federal_contract_provisions/ at the tab entitled, Equipment Meeting Buy American Requirements.

Issued in Washington, DC on March 5, 2012.
Frank J. San Martin,
Manager, Airports Financial Assistance Division.

[FR Doc. 2012-5806 Filed 3-9-12; 8:45 am]

BILLING CODE P